FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 3, 2019.

A. Federal Reserve Bank of Chicago (Colette A. Fried, Assistant Vice President) 230 South LaSalle Street, Chicago, Illinois 60690-1414:

1. John L. Cox, Burr Ridge, Illinois, individually as Special Trustee of the following ten trusts, and together as a group acting in concert with the John L. Cox GST Trust, John L. Cox as Trustee, Edward A. Cox, III GST Trust, Edward A. Cox, III as Trustee, Fontana, Wisconsin, Maureen T. Cox-Scanlon GST Trust, Maureen T. Cox-Scanlon as Trustee, Downers Grove, Illinois, Michael J. Cox GST Trust, Michael J. Cox as Trustee, Rosemary P. Cox-Conway GST Trust, Rosemary P. Cox-Conway as Trustee, Thomas M. Cox GST Trust, Thomas M. Cox as Trustee, Robert J. Cox GST Trust, Robert J. Cox as Trustee, Catherine M. Cox Murphy GST Trust, Catherine M. Cox Murphy as Trustee, Margaret M. Cox-Petrucelli GST Trust, Margaret M. Cox-Petrucelli as Trustee, Mary H. Cox-Coffey GST Trust, and Mary H. Cox Coffey as Trustee, all of Oak Brook, Illinois; to acquire voting shares of Rush-Oak Corporation, and thereby indirectly acquire Oak Bank, both of Chicago, Illinois.

Board of Governors of the Federal Reserve System, March 14, 2019.
Yao-Chin Chao,
Assistant Secretary of the Board.

[FR Doc. 2019-05161 Filed 3-18-19; 8:45 am]

BILLING CODE P